DEPARTMENT OF AGRICULTURE

Animal and Plant Health Inspection Service

[Docket No. 98-085-6]

Aquaculture; Public Meetings

AGENCY: Animal and Plant Health Inspection Service, USDA.

ACTION: Notice of public meetings.

SUMMARY: We are issuing this notice to inform the aquaculture industries, interested parties, and the general public that three public meetings will be held to discuss how and to what extent the Animal and Plant Health Inspection Service should regulate aquatic species and to discuss any other issues concerning possible regulation of aquaculture by the Agency.

DATES: The public meetings will be held on Wednesday, September 19, 2001, from 3:30 p.m. to 6 p.m.; on Tuesday, October 9, 2001, from 9 a.m. to noon; and on Wednesday, October 10, 2001, from 2:30 p.m. to 5 p.m.

ADDRESSES: The public meeting on September 19, 2001, will be held in the Harbor Room of the Silverdale Hotel on the Bay, 3073 NW Bucklin Hill Road, Silverdale, WA, in conjunction with the joint meeting of the Pacific Coast Shellfish Growers Association and the National Shellfish Association/Pacific Coast Section Conference.

The public meeting on October 9, 2001, will be held in the Pennsylvania Farm Show Complex Building, 2301 North Cameron Street, Harrisburg, PA, in conjunction with the fall meeting of the Pennsylvania Aquaculture Advisory Committee and the annual meeting of the Pennsylvania Aquaculture Association.

The public meeting on October 10, 2001, will be held in the Main Building Meeting Room of the Mississippi Agricultural and Forestry Museum, 1150 Lakeland Drive, Jackson, MS, in conjunction with the annual Board meeting of the Catfish Farmers of America.

FOR FURTHER INFORMATION CONTACT: For information about APHIS public meetings, contact Dr. Otis Miller, Jr., National Aquaculture Coordinator, Center for Planning, Certification, and Monitoring, VS, APHIS, 4700 River Road Unit 46, Riverdale, MD 20737-1231, (301) 734-6188.

For information regarding the joint meeting of the Pacific Coast Shellfish Growers Association and the National Shellfish Association/Pacific Coast Section Conference, call Mr. Bill Dewey, Public Affairs and Project Manager for Taylor Shellfish Company, Inc., (360) 887-2699.

For information regarding the joint meeting of the Pennsylvania Aquaculture Advisory Committee and the Pennsylvania Aquaculture Association, call Mr. Leo Dunn, Pennsylvania Aquaculture Coordinator, (717) 783-8462.

For information regarding the annual meeting of the Catfish Farmers of America, call Mr. Hugh Warren, Executive Vice-President, Catfish Farmers of America, (662) 887-2699.

SUPPLEMENTARY INFORMATION: On May 4, 1999, the Animal and Plant Health Inspection Service (APHIS) published an advance notice of proposed rulemaking (ANPR) titled “Aquaculture: Farm-Raised Fin Fish” in the Federal Register (64 FR 23795-23796, Docket No. 98-085-1). We published this ANPR after receiving petitions ¹ asking us to regulate aquaculture in various ways. Many petitioners asked us to define farmed aquatic animals as livestock. In general, the petitioners seemed to be interested in receiving the same services that domestic producers of livestock receive for animals moving in interstate and foreign commerce. However, based on the petitions alone, it was difficult for us to determine what segments of the industry want services and exactly what services they want. It was also difficult to determine the objectives sought by the petitioners who were requesting Federal regulation. We published the ANPR in an attempt to clarify the industry's needs, the nature of the services sought, and the concerns the petitioners had with regard to such regulations.

¹ All the petitions and comments we received are a part of the rulemaking record for Docket No. 98-085-1. You may read the petitions and comments in our reading room. The reading room is located in room 1141 of the USDA South Building, 14th Street and Independence Avenue SW., Washington, DC. Normal reading room hours are 8 a.m. to 4:30 p.m., Monday through Friday, except holidays. To be sure someone is there to help you, please call (202) 690-2817 before coming.

We received 55 comments ² in response to the ANPR. A majority of the commenters supported the idea of APHIS regulation of cultured fin fish. Unfortunately, the commenters generally did not clearly distinguish between fin fish raised for food and ornamental fin fish. Commenters who wanted regulation were, however, very clear that they want programs to prevent and control disease and to support increased commerce, both domestic and export.

² All the petitions and comments we received are a part of the rulemaking record for Docket No. 98-085-1. You may read the petitions and comments in our reading room. The reading room is located in room 1141 of the USDA South Building, 14th Street and Independence Avenue SW., Washington, DC. Normal reading room hours are 8 a.m. to 4:30 p.m., Monday through Friday, except holidays. To be sure someone is there to help you, please call (202) 690-2817 before coming.

The commenters also suggested that any rulemaking initiated by APHIS be a negotiated rulemaking. In negotiated rulemaking, industry representatives and other interested persons meet with APHIS officials and draft proposed regulations together. The proposed regulations are then published for public comment. Negotiated rulemaking is designed to ensure that all interested persons are involved together from the start in the development of regulations.

Unfortunately, negotiated rulemaking is not suitable for all situations. It works well when there is a small number of interested parties and the parties are easy to identify. This is not the case with aquaculture. Because the aquaculture industry is large and diverse, we would have difficulty identifying everyone who should be represented in a negotiated rulemaking. In addition, many parties outside aquaculture would have a substantial interest in such a rulemaking. In our view, the number of people who would need to participate in a negotiated rulemaking would be too large and would suggest that negotiated rulemaking is not appropriate. Furthermore, a negotiated rulemaking would be expensive, and APHIS does not have adequate funds. Therefore, we have concluded that it would not be appropriate to pursue an aquaculture negotiated rulemaking.

However, we have not decided whether to pursue aquaculture rulemaking by other means. Before we make that decision, we want to have as much information as possible from all interested persons, and we want to provide you with as much opportunity as possible to discuss with us and inform us regarding the relevant issues.

Therefore, we are holding a series of public meetings. Public meetings allow all interested parties—industry representatives, producers, consumers, and others—to present their views and to exchange information among themselves and with APHIS.

There are no set agendas for the meetings. Any issues and concerns related to aquaculture and possible APHIS regulatory action can be discussed. However, we would like more information on three specific issues. These are issues that the people and organizations who commented on our ANPR either did not address or were unclear about. Specifically, if APHIS does propose regulations: (1) Should our program be mandatory or voluntary; (2) should we cover shell fish; and (3) should we cover ornamental fin fish?

Information elicited at the meetings could result in a new APHIS regulatory program or in changes to aquaculture-related services currently provided by APHIS.

We have scheduled public meetings on Wednesday, September 19, 2001, in Silverdale, WA; on Tuesday, October 9, 2001, in Harrisburg, PA; and on Wednesday, October 10, 2001, in Jackson, MS.

If you wish to speak at any of the meetings, please register in advance by calling the Regulatory Analysis and Development voice mail at (301) 734-4339. Leave a message with your name, telephone number, organization, if any, the date(s) and location(s) of the meeting(s) you will be attending, and an estimate of the time you need to speak. On the day of each meeting, you may also register to speak during the specified registration time scheduled before each meeting begins.

On-site registration for each meeting will take place outside the meeting rooms one half hour before the meetings begin. The scheduled dates and times for each meeting are listed under DATES. We may end a meeting early if all the registered speakers have had a chance to speak and if no one else wants to speak. We may also extend a meeting or limit the time allowed for each speaker, if necessary, so all interested persons have an opportunity to participate.

An APHIS representative will preside at all of the meetings. The meetings will be recorded. We encourage speakers to present written statements, though it is not required. If you choose to present a written statement, please provide the chairperson with a copy. The complete record of each meeting, including the transcript and all written comments, will be available to the public.

These meetings are part of a series of public meetings. The first public meeting was held on January 25, 2001, in Lake Buena Vista, FL. The second public meeting was held on February 16, 2001, in Hebron, KY. The third public meeting was held on April 5, 2001, in Machias, ME, and the fourth public meeting was held on June 8, 2001, in Twin Falls, ID. Shortly, we plan to announce an additional public meeting in Arkansas, which is tentatively scheduled for Thursday, October 4, 2001. We will publish a notice in the Federal Register announcing the date, time, and location of this meeting.

Done in Washington, DC, this 23rd day of July 2001.
Bobby R. Acord,
Acting Administrator, Animal and Plant Health Inspection Service.

[FR Doc. 01-18781 Filed 7-26-01; 8:45 am]

BILLING CODE 3410-34-U